ENVIRONMENTAL PROTECTION AGENCY

[OPP-2003-0149; FRL-7305-8]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period January 1, 2003 to March 31, 2003 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are a federal or state government agency involved in administration of environmental quality programs (i.e., Departments of Agriculture, Environment, etc). Potentially affected entities may include, but are not limited to:

• Federal or State Government Entity, (NAICS 9241), i.e., Departments of Agriculture, Environment, etc.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of This Document and Other Related Information?

1. Docket. EPA has established an official public docket for this action under docket identification (ID) number OPP-2003-0149. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific: EPA authorized the use of coumaphos in beehives to control varroa mites and small hive beetles; February 12, 2003 to February 1, 2004. Contact: (Barbara Madden)

Arkansas

State Plant Board

Specific: EPA authorized the use of coumaphos in beehives to control varroa mites and small hive beetles; February 12, 2003 to February 1, 2004. Contact: (Barbara Madden)

EPA authorized the use of fenbuconazole on blueberry to control mummy berry; March 4, 2003 to June 30, 2003. Contact: (Andrea Conrath)

California

Environmental Protection Agency, Department of Pesticide Regulation

Specific: EPA authorized the use of maneb on walnuts to control bacterial blight; January 31, 2003 to June 15, 2003. Contact: (Libby Pemberton)

EPA authorized the use of coumaphos in beehives to control varroa mites and small hive beetles; February 24, 2003 to February 1, 2004. Contact: (Barbara Madden)

Colorado

Department of Agriculture

Specific: EPA authorized the use of coumaphos in beehives to control varroa mites and small hive beetles; February 2, 2003 to February 1, 2004. Contact: (Barbara Madden)

EPA authorized the use of difenoconazole on sweet corn seed to control various fungal pathogens; February 25, 2003 to February 25, 2004. Contact: (Andrea Conrath)

EPA authorized the use of sulfentrazone on potatoes to control ALS-inhibitor and triazine-resistant kochia; March 2, 2003 to June 15, 2003. Contact: (Andrew Ertman)

EPA authorized the use of sulfentrazone on sunflowers to control broadleaf weeds; April 1, 2003 to July 1, 2003. Contact: (Andrew Ertman)

EPA authorized the use of dimethenamid-p on sugarbeets to control various nightshade species, lambsquarter, redroot pigweed, barnyardgrass and the suppression of ALS-resistant kochia; April 10, 2003 to July 10, 2003. Contact: (Barbara Madden)

EPA authorized the use of lambda-cyhalothrin on barley to control the Russian wheat aphid and the cereal leaf beetle; April 15, 2003 to July 15, 2003. Contact: (Andrew Ertman)

EPA authorized the use of tebuconazole on sunflower to control rust; July 1, 2003 to August 25, 2003. Contact: (Andrea Conrath)

Connecticut

Department of Environmental Protection

Specific: EPA authorized the use of coumaphos in beehives to control varroa mites and small hive beetles; March 4, 2003 to February 1, 2004. Contact: (Barbara Madden)

Delaware

Department of Agriculture

Specific: EPA authorized the use of coumaphos in beehives to control varroa mites and small hive beetles; March 13, 2003 to February 1, 2004. Contact: (Barbara Madden)

Florida

Department of Agriculture and Consumer Services

Specific: EPA authorized the use of fenbuconazole on grapefruit to control greasy spot; February 4, 2003 to October 1, 2003. Contact: (Andrea Conrath)

EPA authorized the use of pyriproxyfen on legumes to control whiteflies; February 7, 2003 to February 7, 2004. Contact: (Andrea Conrath)

Georgia

Department of Agriculture

Specific: EPA authorized the use of fenbuconazole on blueberry to control mummy berry; January 14, 2003 to July 1, 2003. Contact: (Andrea Conrath)

Idaho

Department of Agriculture

Specific: EPA authorized the use of pendimethalin on mint to control kochia and redroot pigweed; February 7, 2003 to December 31, 2003. Contact: (Libby Pemberton)

EPA authorized the use of carfentrazone-ethyl on hops to control hop suckers to indirectly control powdery mildew; March 20, 2003 to August 15, 2003. Contact: (Barbara Madden)

EPA authorized the use of dimethenamid-p on sugar beets to control hairy nightshade, redroot pigweed, and yellow nutsedge; April 1, 2003 to July 15, 2003. Contact: (Barbara Madden)

Illinois

Department of Agriculture

Specific: EPA authorized the use of coumaphos in beehives to control varroa mites and small hive beetles; February 2, 2003 to February 1, 2004. Contact: (Barbara Madden)

Indiana

Office of Indiana State Chemist

Specific: EPA authorized the use of coumaphos in beehives to control varroa mites and small hive beetles; February 12, 2003 to February 1, 2004. Contact: (Barbara Madden)

Iowa

Department of Agriculture and Land Stewardship

Specific: EPA authorized the use of coumaphos in beehives to control varroa mites and small hive beetles; March 20, 2003 to February 1, 2004. Contact: (Barbara Madden)

Kansas

Department of Agriculture

Specific: EPA authorized the use of coumaphos in beehives to control varroa mites and small hive beetles; February 2, 2003 to February 1, 2004. Contact: (Barbara Madden)

EPA authorized the use of propicnazole on sorghum to control sorghum ergot; February 12, 2003 to February 12, 2004. Contact: (Libby Pemberton)

EPA authorized the use of fluroxypr on pastures and rangeland to control the noxious weed species sericea lespedeza (Lespedeza cuneata); March 30, 2003 to July 30, 2003. Contact: (Barbara Madden)

EPA authorized the use of sulfentrazone on sunflowers to control kochia; April 15, 2003 to July 1, 2003. Contact: (Andrew Ertman)

EPA authorized the use of tebuconazole on sunflower to control rust; June 1, 2003 to September 15, 2003. Contact: (Andrea Conrath)

Kentucky

Department of Agriculture

Specific: EPA authorized the use of coumaphos in beehives to control varroa mites and small hive beetles; February 2, 2003 to February 1, 2004. Contact: (Barbara Madden)

Louisiana

Department of Agriculture and Forestry

Specific: EPA authorized the use of coumaphos in beehives to control varroa mites and small hive beetles; February 2, 2003 to February 1, 2004. Contact: (Barbara Madden)

EPA authorized the use of 3-chloro-p-touidine hydrochloride on rice to control various birds, including red-winged blackbirds; February 14, 2003 to April 15, 2003. Contact: (Libby Pemberton)

Maine

Department of Agriculture, Food, and Rural Resources

Specific: EPA authorized the use of coumaphos in beehives to control varroa mites and small hive beetles; March 13, 2003 to February 1, 2004. Contact: (Barbara Madden)

EPA authorized the use of propiconazole on blueberry to control mummy berry; April 15, 2003 to June 15, 2003. Contact: (Andrea Conrath)

Maryland

Department of Agriculture

Specific: EPA authorized the use of s-metolachlor on tomatoes to control eastern black nightshade and yellow nutsedge; April 10, 2003 to July 31, 2003. Contact: (Andrew Ertman)

Massachusetts

Massachusetts Department of Food and Agriculture

Specific: EPA authorized the use of coumaphos in beehives to control varroa mites and small hive beetles; March 13, 2003 to February 1, 2004. Contact: (Barbara Madden)

EPA authorized the use of propyzamide on cranberries to control dodder; March 30, 2003 to June 15, 2003. Contact: (Andrew Ertman)

Michigan

Michigan Department of Agriculture

Specific: EPA authorized the use of coumaphos in beehives to control varroa mites and small hive beetles; March 13, 2003 to February 1, 2004. Contact: (Barbara Madden)

EPA authorized the use of tebuconazole on asparagus to control rust; March 31, 2003 to November 1, 2003. Contact: (Barbara Madden)

Minnesota

Department of Agriculture

Specific: EPA authorized the use of coumaphos in beehives to control varroa mites and small hive beetles; February 12, 2003 to February 1, 2004. Contact: (Barbara Madden)

EPA authorized the use of sulfentrazone on horseradish to control broadleaf weeds; April 1, 2003 to July 1, 2003. Contact: (Andrew Ertman)

EPA authorized the use of sulfentrazone on sunflowers to control kochia; April 15, 2003 to June 30, 2003. Contact: (Andrew Ertman)

EPA authorized the use of dimethenamid-p on sugarbeets to control waterhemp and Powell amaranth; May 1, 2003 to August 1, 2003. Contact: (Barbara Madden)

EPA authorized the use of lambda-cyhalothrin on wild rice to control rice worms; August 1, 2003 to September 10, 2003. Contact: (Andrew Ertman)

Mississippi

Department of Agriculture and Commerce

Specific: EPA authorized the use of coumaphos in beehives to control varroa mites and small hive beetles; March 4, 2003 to February 1, 2004. Contact: (Barbara Madden)

Missouri

Department of Agriculture

Specific: EPA authorized the use of coumaphos in beehives to control varroa mites and small hive beetles; March 4, 2003 to February 1, 2004. Contact: (Barbara Madden)

EPA authorized the use of sulfentrazone on sunflowers to control broadleaf weeds; April 1, 2003 to July 31, 2003. Contact: (Andrew Ertman)

Montana

Department of Agriculture

Specific: EPA authorized the use of sulfentrazone on chick peas to control wild buckwheat; March 13, 2003 to June 30, 2003. Contact: (Andrew Ertman)

EPA authorized the use of sulfentrazone on dry peas to control wild buckwheat; March 13, 2003 to June 30, 2003. Contact: (Andrew Ertman)

EPA authorized the use of sulfentrazone on sunflowers to control kochia; March 15, 2003 to June 30, 2003. Contact: (Andrew Ertman)

EPA authorized the use of coumaphos in beehives to control varroa mites and small hive beetles; March 30, 2003 to February 1, 2004. Contact: (Barbara Madden)

EPA authorized the use of dimethenamid-p on sugar beets to control hairy nightshade and redroot pigweed; May 1, 2003 to July 31, 2003. Contact: (Barbara Madden)

Nebraska

Department of Agriculture

Specific: EPA authorized the use of coumaphos in beehives to control varroa mites and small hive beetles; March 17, 2003 to February 1, 2004. Contact: (Barbara Madden)

EPA authorized the use of sulfentrazone on chickpeas to control broadleaf weeds; March 27, 2003 to July 1, 2003. Contact: (Andrew Ertman)

EPA authorized the use of sulfentrazone on sunflowers to control broadleaf weeds; April 1, 2003 to July 1, 2003. Contact: (Andrew Ertman)

EPA authorized the use of sulfentrazone on potatoes to control ALS-inhibitor and triazine-resistant Palmer amaranth, redroot pigweed, and common waterhemp; April 10, 2003 to June 30, 2003. Contact: (Andrew Ertman)

EPA authorized the use of dimethenamid-p on sugar beets to control ALS-resistant broadleaf weeds; April 10, 2003 to July 31, 2003. Contact: (Barbara Madden)

New Jersey

Department of Environmental Protection

Specific: EPA authorized the use of coumaphos in beehives to control varroa mites and small hive beetles; March 30, 2003 to February 1, 2004. Contact: (Barbara Madden)

EPA authorized the use of imidacloprid on blueberries to control blueberry aphids; April 10, 2003 to August 10, 2003. Contact: (Andrew Ertman)

EPA authorized the use of propyzamide on cranberries to control dodder; April 30, 2003 to December 15, 2003. Contact: (Andrew Ertman)

EPA authorized the use of imidacloprid on blueberries to control oriental beetles; May 15, 2003 to September 15, 2003. Contact: (Andrew Ertman)

New Mexico

Department of Agriculture

Specific: EPA authorized the use of coumaphos in beehives to control varroa mites and small hive beetles; February 12, 2003 to February 1, 2004. Contact: (Barbara Madden)

North Carolina

Department of Agriculture

Specific: EPA authorized the use of coumaphos in beehives to control varroa mites and small hive beetles; February 2, 2003 to February 1, 2004. Contact: (Barbara Madden)

EPA authorized the use of fenbuconazole on blueberry to control mummy berry; January 24, 2003 to August 31, 2003. Contact: (Andrea Conrath)

North Dakota

Department of Agriculture

Specific: EPA authorized the use of coumaphos in beehives to control varroa mites and small hive beetles; March 17, 2003 to February 1, 2004. Contact: (Barbara Madden)

EPA authorized the use of sulfentrazone on flax to control kochia and ALS-resistant kochia; April 1, 2003 to June 30, 2003. Contact: (Andrew Ertman)

EPA authorized the use of sulfentrazone on chick peas to control wild buckwheat; April 1, 2003 to June 30, 2003. Contact: (Andrew Ertman)

EPA authorized the use of sulfentrazone on field peas to control wild buckwheat; April 1, 2003 to June 30, 2003. Contact: (Andrew Ertman)

EPA authorized the use of sulfentrazone on sunflowers to control kochia; April 15, 2003 to June 30, 2003. Contact: (Andrew Ertman)

EPA authorized the use of dimethenamid-p on sugarbeets to control waterhemp and Powell amaranth; May 1, 2003 to August 1, 2003. Contact: (Barbara Madden)

Ohio

Department of Agriculture

Specific: EPA authorized the use of coumaphos in beehives to control varroa mites and small hive beetles; February 2, 2003 to February 1, 2004. Contact: (Barbara Madden)

Oklahoma

Department of Agriculture

Specific: EPA authorized the use of coumaphos in beehives to control varroa mites and small hive beetles; February 12, 2003 to February 1, 2004. Contact: (Barbara Madden)

EPA authorized the use of sulfentrazone on sunflowers to control broadleaf weeds; April 15, 2003 to July 15, 2003. Contact: (Andrew Ertman)

Oregon

Department of Agriculture

Specific: EPA authorized the use of coumaphos in beehives to control varroa mites and small hive beetles; February 2, 2003 to February 1, 2004. Contact: (Barbara Madden)

EPA authorized the use of pendimethalin on mint to control kochia and redroot pigweed; February 7, 2003 to December 31, 2003. Contact: (Libby Pemberton)

EPA authorized the use of propiconazole on filberts (hazelnuts) to control Eastern filbert blight; February 15, 2003 to May 30, 2003. Contact: (Dan Rosenblatt)

EPA authorized the use of fenbuconazole on blueberry to control mummy berry; March 4, 2003 to May 31, 2003. Contact: (Andrea Conrath)

EPA authorized the use of carfentrazone-ethyl on hops to control hop suckers to indirectly control powdery mildew; March 20, 2003 to August 15, 2003. Contact: (Barbara Madden)

EPA authorized the use of dimethenamid-p on sugar beets to control hairy nightshade, redroot pigweed, and yellow nutsedge; April 1, 2003 to July 15, 2003. Contact: (Barbara Madden)

EPA authorized the use of fluroxypyr on sweet corn and field corn to control volunteer potatoes; April 15, 2003 to August 1, 2003. Contact: (Andrew Ertman)

Pennsylvania

Department of Agriculture

Specific: EPA authorized the use of coumaphos in beehives to control varroa mites and small hive beetles; February 24, 2003 to February 1, 2004. Contact: (Barbara Madden)

Rhode Island

Department of Environmental Management

Specific: EPA authorized the use of propyzamide on cranberries to control dodder; March 30, 2003 to June 15, 2003. Contact: (Andrew Ertman)

South Carolina

Clemson University

Specific: EPA authorized the use of fenbuconazole on blueberry to control mummy berry; January 24, 2003 to August 31, 2003. Contact: (Andrea Conrath)

EPA authorized the use of coumaphos in beehives to control varroa mites and small hive beetles; March 13, 2003 to February 1, 2004. Contact: (Barbara Madden)

South Dakota

Department of Agriculture

Specific: EPA authorized the use of coumaphos in beehives to control varroa mites and small hive beetles; March 4, 2003 to February 1, 2004. Contact: (Barbara Madden)

EPA authorized the use of sulfentrazone on chick peas to control kochia; April 1, 2003 to June 30, 2003. Contact: (Andrew Ertman)

EPA authorized the use of sulfentrazone on dry peas to control kochia; April 1, 2003 to June 30, 2003. Contact: (Andrew Ertman)

Tennessee

Department of Agriculture

Specific: EPA authorized the use of coumaphos in beehives to control varroa mites and small hive beetles; March 4, 2003 to February 1, 2004. Contact: (Barbara Madden)

Texas

Department of Agriculture

Specific: EPA authorized the use of coumaphos in beehives to control varroa mites and small hive beetles; February 12, 2003 to February 1, 2004. Contact: (Barbara Madden)

EPA authorized the use of sulfentrazone on sunflowers to control broadleaf weeds; March 20, 2003 to June 30, 2003. Contact: (Andrew Ertman)

Utah

Department of Agriculture

Specific: EPA authorized the use of coumaphos in beehives to control varroa mites and small hive beetles; March 4, 2003 to February 1, 2004. Contact: (Barbara Madden)

Vermont

Department of Agriculture

Specific: EPA authorized the use of coumaphos in beehives to control varroa mites and small hive beetles; March 30, 2003 to February 1, 2004. Contact: (Barbara Madden)

Virginia

Department of Agriculture and Consumer Services

Specific: EPA authorized the use of s-metolachlor on tomatoes to control eastern black nightshade and yellow nutsedge; February 12, 2003 to December 1, 2003. Contact: (Andrew Ertman)

EPA authorized the use of s-metolachlor on tomatoes to control weeds; February 12, 2003 to December 31, 2003. Contact: (Andrew Ertman)

EPA authorized the use of coumaphos in beehives to control varroa mites and small hive beetles; February 14, 2003 to February 1, 2004. Contact: (Barbara Madden)

Washington

Department of Agriculture

Specific: EPA authorized the use of pendimethalin on mint to control kochia and redroot pigweed; February 7, 2003 to December 31, 2003. Contact: (Libby Pemberton)

EPA authorized the use of propiconazole on blueberry to control mummy berry; March 5, 2003 to June 10, 2003. Contact: (Andrea Conrath)

EPA authorized the use of sulfentrazone on strawberries to control broadleaf weeds; March 15, 2003 to February 28, 2004. Contact: (Andrew Ertman)

EPA authorized the use of carfentrazone-ethyl on hops to control hop suckers to indirectly control powdery mildew; March 20, 2003 to August 15, 2003. Contact: (Barbara Madden)

EPA authorized the use of fluroxypyr on sweet corn and field corn to control volunteer potatoes; April 15, 2003 to August 1, 2003. Contact: (Andrew Ertman)

West Virginia

Department of Agriculture

Specific: EPA authorized the use of coumaphos in beehives to control varroa mites and small hive beetles; March 17, 2003 to February 1, 2004. Contact: (Barbara Madden)

Wisconsin

Department of Agriculture, Trade, and Consumer Protection

Specific: EPA authorized the use of mancozeb on ginseng to control stem and leaf blight; January 17, 2003 to October 15, 2003. Contact: (Libby Pemberton)

EPA authorized the use of coumaphos in beehives to control varroa mites and small hive beetles; February 2, 2003 to February 1, 2004. Contact: (Barbara Madden)

EPA authorized the use of dimethenamid-p on dry bulb onions grown on muck soils to control yellow nutsedge and other broadleaf weeds; April 1, 2003 to July 31, 2003. Contact: (Barbara Madden)

EPA authorized the use of sulfentrazone on horseradish to control broadleaf weeds; April 15, 2003 to July 15, 2003. Contact: (Andrew Ertman)

EPA authorized the use of sulfentrazone on strawberries to control common groundsel; June 20, 2003 to December 15, 2003. Contact: (Andrew Ertman)

Wyoming

Department of Agriculture

Specific: EPA authorized the use of coumaphos in beehives to control varroa mites and small hive beetles; March 13, 2003 to February 1, 2004. Contact: (Barbara Madden)

EPA authorized the use of dimethenamid-p on sugar beets to control ALS-resistant broadleaf weeds; April 10, 2003 to July 31, 2003. Contact: (Barbara Madden)

EPA authorized the use of sulfentrazone on sunflowers to control broadleaf weeds; April 15, 2003 to June 30, 2003. Contact: (Andrew Ertman)

List of Subjects

Environmental protection, Pesticides and pest.

Dated: April 28, 2003.
Debra Edwards,
Director, Registration Division, Office of Pesticide Programs.

[FR Doc. 03-11196 Filed 5-6-03; 8:45 am]

BILLING CODE 6560-50-S